DEPARTMENT OF TRANSPORTATION

Federal Highway Administration

Environmental Impact Statement: St. Clair County, MI

AGENCY: Federal Highway Administration (FHWA), DOT.

ACTION: Notice of availability (NOA) of the Final Environmental Impact Statement (FEIS) for the Blue Water Bridge Plaza Study and Section 4(f) Evaluation.

SUMMARY: This notice announces the availability of a Final Environmental Impact Statement (FEIS) and Section 4(f) Evaluation for the Blue Water Bridge Plaza Study (BWB). This action is pursuant to the National Environmental Policy Act (NEPA) of 1969, 42 U.S.C. 4321 et seq., as amended and the Council on Environmental Quality Regulations (40 CFR Parts 1500-1508). The FEIS discusses the recommended alternative to improve the United States inspection Facility at the Blue Water Bridge Plaza and the I-94/I-69 corridor in St. Clair County, Michigan; describes the environmental impacts of the proposed project and proposed mitigation; and addresses comments received on the Draft Environmental Impact Statement and Section 4(f) Evaluation issued in August 2007.

DATES: Any comments must be received on or before May 4, 2009. The FEIS waiting period ends 30 days after the U.S. Environmental Protection Agency publishes the BWB's NOA in the Federal Register (currently scheduled to be published on April 3, 2009).

ADDRESSES: Document Availability: Copies of the FEIS are available for public inspection and review on the project Web site: http://www.michigan.gov/bluewaterbridgeproject and at the following locations:

• Fort Gratiot Township, 3720 Keewahdin Road, Fort Gratiot, MI 48059.

• Port Huron City of, Office of the City Clerk, 100 McMorran Blvd., Port Huron, MI 48060.

• Port Huron Township, 3800 Lapeer Road, Port Huron, MI 48060.

• MDOT Region Office, 18101 W. Nine Mile Road, Southfield, MI 48075.

• MDOT Bureau of Transportation Planning, 425 W. Ottawa St., Lansing, MI 48933.

• MDOT Port Huron Transportation Service Center, 2127 11th Ave., Port Huron, MI 48060.

• St. Clair County Library, 210 McMorran Blvd., Port Huron, MI 48060.

• St. Clair County Planning Office, St. Clair County Bldg., 200 Grand River Ave., Port Huron, MI 48060.

Copies of the FEIS may be requested from Bob Parsons (Public Involvement and Hearings Officer) at the Michigan Department of Transportation, 425 W. Ottawa Street, P.O. Box 30050, Lansing, MI 48909 or by calling (517) 373-9534.

Comments: Send any comments on the FEIS to the Michigan Department of Transportation, c/o Bob Parsons (Public Involvement and Hearings Officer), 425 W. Ottawa Street, P.O. Box 30050, Lansing, MI 48909; Fax: (517) 373-9255; or e-mail: parsonsb@michigan.gov. Information regarding this proposed action is available in alternative formats upon request.

FOR FURTHER INFORMATION CONTACT: Ryan Rizzo, Major Project Manager, at FHWA Michigan Division, 315 W. Allegan Street, Room 201; Lansing, MI 48933; by phone at (517) 702-1833, or e-mail at Ryan.Rizzo@FHWA.DOT.US. David Williams, Environmental Program Manager, FHWA Michigan Division, 315 W. Allegan Street, Room 201; Lansing, MI 48933; by phone at (517) 702-1820; or e-mail at David.Williams@FHWA.DOT.US.

SUPPLEMENTARY INFORMATION: The proposed federal action is to expand the Blue Water Bridge Plaza and improve the I-94/I-69 corridor. Improvements are needed on the Blue Water Bridge Plaza to provide safe, efficient and secure movement of people and goods across the Canadian-U.S. border in the Port Huron area to support the economies of Michigan, Ontario, Canada, and the United States and to support the mobility and security needs associated with national and civil defense.

Purpose and Need for the Project: The selected alternative must provide additional space for inspection booths, offices, docks to inspect and unload cargo, new security measures, and parking for cars and trucks needing inspection. The need for additional space and facilities is supported by several key issues including:

• Security issues.

• Introduction of new inspection technologies, procedures, and policies.

• Limited existing space to accommodate increased number of border inspection agents.

• Traffic conflicts and crash history.

• Access between the plaza and adjacent circulatory local roads.

• Traffic growth and traffic backups.

• Existing infrastructure conditions of the I-94/I-69 corridor.

• Upgrading the International Welcome Center.

Alternatives Evaluated: The DEIS evaluated three action alternatives in addition to a No-Build Alternative: City East Alternative, City West Alternative and the Township Alternative.

Recommended Alternative: Revisions to the City West (Preferred) Alternative were made to address the overall plaza size and layout, and reduce the social, economic and environmental impacts. These changes are presented in the FEIS as the Recommended Alternative.

The Recommended Alternative brings the existing elevated plaza (22′) down to grade, which requires the relocation of Pine Grove Avenue to the south and west of the plaza. It reduces the permanent size of the U.S. Port of Entry from 65 acres proposed in the Draft Environmental Impact Statement to 57 acres. Additional acreage would be required to relocate Pine Grove Avenue to the south and west of the expanded plaza as well as to construct the plaza project and maintain traffic during the construction phases of the project.

Authority: 42 U.S.C. 4321 et seq., as amended and the Council on Environmental Quality Regulations (40 CFR Parts 1500-1508) 23 CFR 771.117; and 23 U.S.C. 139(l)(l).

Issued on: March 20, 2009.
James J. Steele,
Division Administrator, Lansing, Michigan.

[FR Doc. E9-6857 Filed 3-30-09; 8:45 am]

BILLING CODE 4910-22-M